DEPARTMENT OF HEALTH AND HUMAN SERVICES

Administration for Children and Families

Office of Child Care; Statement of Organization, Functions, and Delegations of Authority; Correction

AGENCY: Administration for Children and Families, HHS.

ACTION: Notice; correction.

SUMMARY: The Administration for Children and Families (ACF) published a document in the Federal Register on December 4, 2024, concerning minor adjustments made to the organization of the Office of Child Care (OCC) in adding a Regional Operations Division. The document contained an incorrect code.

FOR FURTHER INFORMATION CONTACT: Anne-Marie Twohie, Deputy Director, Office of Child Care, 330 C Street SW, Washington, DC 20201, (240) 935-1159.

SUPPLEMENTARY INFORMATION:

Correction

In the Federal Register on December 4, 2024, in FR Doc. 2024-28368 at 89 FR 96255 in the second full paragraph of the third column, correct F to read:

F. Regional Operations Division (KVAD): The Regional Operations Division is responsible for providing oversight, direction, and guidance to the 10 OCC Regional Offices and integrates regional work in central office planning.

Linda Hitt,
Director, Office of the Executive Secretariat.

[FR Doc. 2024-30650 Filed 12-23-24; 8:45 am]

BILLING CODE 4184-01-P